ENVIRONMENTAL PROTECTION AGENCY

40 CFR Parts 52 and 70

[EPA-R07-OAR-2016-0529; FRL-9953-33-Region 7]

Approval of Missouri's Air Quality Implementation Plans and Operating Permits Program; Greenhouse Gas Tailoring Rule and Non-Substantive Definition and Language Changes

AGENCY: Environmental Protection Agency (EPA).

ACTION: Proposed rule.

SUMMARY: Environmental Protection Agency (EPA) is proposing to approve revisions to the Missouri State Implementation Plan (SIP) and the 40 CFR part 70 operating permits program. EPA is proposing to approve revisions to two Missouri rule(s) entitled, “Construction Permits Required,” and “Operating Permits.” This proposed action is consistent with the July 12, 2013, U.S. Court of Appeals for the District of Columbia and the June 23, 2014, U.S. Supreme Court actions regarding Greenhouse Gas Prevention of Significant Deterioration and Title V Permitting. This action makes non-substantive changes to definitions, and language clarifications.

DATES: Comments must be received by November 2, 2016.

ADDRESSES: Submit your comments, identified by Docket ID No. EPA-R07-OAR-2016-0529, http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Larry Gonzalez, Environmental Protection Agency, Air Planning and Development Branch, 11201 Renner Boulevard, Lenexa, Kansas 66219 at (913) 551-7041, or by email at gonzalez.larry@epa.gov.

SUPPLEMENTARY INFORMATION: This document proposes to take action to approve revisions to the Missouri Title V Operating Permits Program and the Missouri SIP. We have published a direct final rule approving the State's SIP revision(s) in the “Rules and Regulations” section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Environmental protection, Administrative practice and procedure, Air pollution control, Intergovernmental relations, Operating permits, Reporting and recordkeeping requirements.

Dated: September 21, 2016.
Mark Hague,
Regional Administrator, Region 7.

[FR Doc. 2016-23601 Filed 9-30-16; 8:45 am]

BILLING CODE 6560-50-P